DEPARTMENT OF JUSTICE

Notice of Lodging of Consent Decree Pursuant to the Comprehensive Environmental Response, Compensation, and Liability Act of 1980, as Amended

Notice is hereby given that a proposed Consent Decree with Vulcan International Corporation (“Vulcan”), one of the defendants in an action filed by the United States in March 1990 entitled United States v. Re-Solve, Inc., Civil Action No. 90-10490K (D. Mass.), was lodged with the United States District Court for the District of Massachusetts on March 10, 2003. In the action, the United States brought a claim pursuant to Section 107(a) of the Comprehensive Environmental Response, Compensation, and Liability Act (“CERCLA”), 42 U.S.C 9607(A), against Vulcan, as well as a number of other parties, seeking to recover past costs with respect to the Re-Solve, Inc. Superfund Site located in North Dartmouth, Massachusetts (the “Site”), as well as a declaratory judgment of liability with respect to future costs to be incurred by the United States at the Site. Pursuant to the terms of the proposed Consent Decree, Vulcan has agreed to pay the United States $3.8 million within 30 days of the Court's entry of the Consent Decree, plus interests on this amount accruing from November 1, 2002 at the CERCLA rate of interest. The United States will provide Vulcan with a covenant not to sue, pursuant to Sections 106 and 107(a) of CERCLA, 42 U.S.C. §§ 9606 and 9607(a), with regard to the Site.

The Department of Justice will receive, for a period of up to thirty days from the date of this publication, comments relating to the proposed Consent Decree. Comments should be addressed to the Assistant Attorney General, Environment and Natural Resources Division, P.O. Box 7611, U.S. Department of Justice, Washington, DC 20044-7611, and should refer to United States v. Re-Solve, Inc., Civil Action 90-10490K (D. Mass.), DOJ No. 90-11-2-58A. A copy of the comments should also be sent to Donald G. Frankel, Trial Attorney, Environmental Enforcement Section, Environment and Natural Resources Division, U.S. Department of Justice, One Gateway Center, Suite 616, Newton, Massachusetts 02458.

The proposed Consent Decree may also be examined at the Office of the United States Attorney, U.S. Courthouse, One Courthouse Way, Suite 9200, Boston, MA 02210 (contact Bunker Henderson at 617-748-3100) or at EPA Region 1, One Congress Street, Suite 1100, Boston, MA 02114-2023 (contact Jill Metcalf at 617-918-1088). During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547, referencing the Vulcan International Corporation consent decree in United States v. Re-Solve, Inc., DOJ No. 90-11-2-58A. In requesting a copy, please enclose a check in the amount of $7.00 (25 cents per page reproduction cost) payable to the U.S. Treasury.

Ronald G. Gluck,
Assistant Chief, Environmental Enforcement Section, Environment and Natural Resources Division.

[FR Doc. 03-6644 Filed 3-19-03; 8:45 am]

BILLING CODE 4410-15-M